DEPARTMENT OF COMMERCE

International Trade Administration

[A-122-853]

Citric Acid and Certain Citrate Salts From Canada: Final Results of Sunset Review and Revocation of Order

AGENCY: Enforcement and Compliance, International Trade Administration, Department of Commerce.

SUMMARY: On May 1, 2020, the Department of Commerce (Commerce) initiated the second sunset review of the antidumping duty order on citric acid and certain citrate salts from Canada. Because the domestic interested parties withdrew their intent to participate in this sunset review, Commerce is revoking this antidumping duty order.

DATES: Applicable June 24, 2020.

FOR FURTHER INFORMATION CONTACT: Zachary Shaykin, AD/CVD Operations, Office IV, Enforcement and Compliance, International Trade Administration, U.S. Department of Commerce, 1401 Constitution Avenue NW, Washington, DC 20230; telephone: (202) 482-2638.

SUPPLEMENTARY INFORMATION:

Background

On May 29, 2009, Commerce issued an antidumping duty order on citric acid and certain citrate salts from Canada.¹ On June 24, 2015, Commerce published a continuation of the order.² On May 1, 2020, Commerce initiated a second sunset review of this order.³

¹ See Citric Acid and Certain Citrate Salts from Canada and the People's Republic of China: Antidumping Duty Orders, 74 FR 25703 (May 29, 2009).

² See Citric Acid and Certain Citrate Salts from Canada and the People's Republic of China: Continuation of the Antidumping Duty Orders on Canada and the People's Republic of China, and Continuation of the Countervailing Duty Order on the People's Republic of China, 80 FR 36318 (June 24, 2015) (2015 Continuation Notice).

³ See Initiation of Five-Year (Sunset) Reviews, 85 FR 25386 (May 1, 2020).

On May 18, 2020, within the applicable deadline, Commerce received a Notice of Intent to Participate from Archer Daniels Midland Company, Cargill, Incorporated, and Tate & Lyle Ingredients Americas LLC, the domestic interested parties in this proceeding.⁴ However, on May 29, 2020, the domestic interested parties withdrew their Notice of Intent to Participate and notified Commerce that they would not be filing a substantive response to the notice of initiation for the antidumping duty order on citric acid and certain citrate salts from Canada.

⁴ See 19 CFR 351.218(d)(1)(i).

In light of the withdrawal of domestic interested parties to this proceeding, Commerce determines that there is no domestic participation or adequate substantive responses from a domestic interested party in this sunset review, pursuant to 19 CFR 351.218(e)(1)(i)(C). On June 2, 2020, Commerce notified the International Trade Commission, in writing, that we intended to issue a final determination revoking this antidumping duty order.⁵

⁵ See Commerce's Letter, “Status Update for Sunset Review Initiated on May 1, 2020, for Citric Acid and Certain Citrate Salts from Canada,” dated June 2, 2020.

Scope of the Order

The scope of the order includes all grades and granulation sizes of citric acid, sodium citrate, and potassium citrate in their unblended forms, whether dry or in solution, and regardless of packaging type. The scope also includes blends of citric acid, sodium citrate, and potassium citrate; as well as blends with other ingredients, such as sugar, where the unblended form(s) of citric acid, sodium citrate, and potassium citrate constitute 40 percent or more, by weight, of the blend. The scope of the order also includes all forms of crude calcium citrate, including dicalcium citrate monohydrate, and tricalcium citrate tetrahydrate, which are intermediate products in the production of citric acid, sodium citrate, and potassium citrate. The scope of the order does not include calcium citrate that satisfies the standards set forth in the United States Pharmacopeia and has been mixed with a functional excipient, such as dextrose or starch, where the excipient constitutes at least 2 percent, by weight, of the product. The scope of the order includes the hydrous and anhydrous forms of citric acid, the dihydrate and anhydrous forms of sodium citrate, otherwise known as citric acid sodium salt, and the monohydrate and monopotassium forms of potassium citrate. Sodium citrate also includes both trisodium citrate and monosodium citrate, which are also known as citric acid trisodium salt and citric acid monosodium salt, respectively. Citric acid and sodium citrate are classifiable under 2918.14.0000 and 2918.15.1000 of the Harmonized Tariff Schedule of the United States (HTSUS), respectively. Potassium citrate and crude calcium citrate are classifiable under 2918.15.5000 and 3824.90.9290 of the HTSUS, respectively. Blends that include citric acid, sodium citrate, and potassium citrate are classifiable under 3824.90.9290 of the HTSUS. Although the HTSUS subheadings are provided for convenience and customs purposes, our written description of the scope is dispositive.

Determination To Revoke

Pursuant to section 751(c)(3)(A) of the Tariff Act of 1930, as amended (the Act) and 19 CFR 351.218(d)(1)(iii)(B)(3), if no domestic interested party files a notice of intent to participate, Commerce shall, within 90 days after the initiation of the review, issue a final determination revoking the order. Because all the domestic interested parties withdrew their notice of intent to participate in this sunset review, Commerce finds that no domestic interested party is participating in this sunset review. Therefore, consistent with the section 751(c)(3)(A) of the Act and 19 CFR 351.222(i)(2)(i), we are revoking the antidumping duty order on citric acid and certain citrate salts from Canada.⁶

⁶ See 19 CFR 351.218(d)(1)(i); see also 19 CFR 351.218(e)(1)(i)(C)(1).

Effective Date of Revocation

The effective date of revocation is June 24, 2020, the fifth anniversary of the date of publication in the Federal Register of the most recent notice of continuation of this antidumping duty order.⁷

⁷ See 2015 Continuation Notice.

Pursuant to section 751(c)(3)(A) of the Act, Commerce intends to issue instructions to U.S. Customs and Border Protection, 15 days after the publication of this notice, to terminate the suspension of liquidation of the merchandise subject to this order entered, or withdrawn from warehouse, on or after June 24, 2020. Entries of subject merchandise prior to the effective date of revocation will continue to be subject to suspension of liquidation and antidumping duty deposit requirements. Commerce will complete any pending administrative reviews of this order and will conduct administrative reviews of subject merchandise entered prior to the effective date of revocation in response to appropriately filed requests for review.

This five-year (sunset) review and notice of revocation are published in accordance with sections 751(c) and 777(i)(1) of the Act and 19 CFR 351.218(d)(1)(iii)(B)(3) and 19 CFR 351.222(i)(1)(i).

Dated: June 15, 2020.
Jeffrey I. Kessler,
Assistant Secretary for Enforcement and Compliance.

[FR Doc. 2020-13269 Filed 6-22-20; 8:45 am]

BILLING CODE 3510-DS-P